DEPARTMENT OF TRANSPORTATION

Coast Guard

33 CFR Part 117

[CGD07-02-062]

Drawbridge Operation Regulations; Atlantic Avenue Bridge (SR 806), Atlantic Intracoastal Waterway, Mile 1039.6, Delray Beach, FL

AGENCY: Coast Guard, DOT.

ACTION: Notice of temporary deviation from regulations.

SUMMARY: The Commander, Seventh Coast Guard District, has approved a deviation from the regulations governing the operation of the Atlantic Avenue bridge (SR 806), across the Atlantic Intracoastal Waterway, mile 1039.6 in Delray Beach, Florida. This deviation allows the drawbridge to only open a single leaf from 5 a.m. on July 8, 2002 to 11:59 p.m. on July 12, 2002 and from 5 a.m. on July 22, 2002 to 11:59 p.m. on July 26, 2002. This deviation is required by the owner to complete repairs to the bridge.

DATES: This deviation is effective from 5 a.m. on July 8, 2002 to 11:59 p.m. on July 26, 2002.

ADDRESSES: Material received from the public, as well as documents indicated in this preamble as being available in the docket, will become part of this docket and will be available for inspection or copying at Commander (obr), Seventh Coast Guard District, 909 SE 1st Avenue, Room 432, Miami, FL 33131.

FOR FURTHER INFORMATION CONTACT: Mr. Barry Dragon, Chief, Operations Section, Seventh Coast Guard District, Bridge Branch at (305) 415-6743.

SUPPLEMENTARY INFORMATION: The existing regulations in 33 CFR 117.261(aa) governing the operation of the Atlantic Avenue bridge (SR 806), mile 1039.6, at Delray Beach, Florida allow the draw to open on signal, except that, from November 1 through May 31 from 10 a.m. to 6 pm., Monday through Friday, the draw need open only on the hour, and half hour.

The Florida Department of Transportation requested on June 5, 2002, that the Coast Guard allow single leaf openings from 5 a.m. on July 8, 2002 to 11:59 p.m. on July 12, 2002 and from 5 a.m. on July 22, 2002 to 11:59 p.m. on July 26, 2002 to complete repairs to the bridge spans.

The District Commander granted a deviation from the operating requirements listed in 33 CFR 117.261(aa) to allow the owner to complete repairs to the bridge spans. Under this deviation, the Atlantic Avenue bridge need open only a single leaf from 5 a.m. on July 8, 2002 to 11:59 p.m. on July 12, 2002 and from 5 a.m. on July 22, 2002 to 11:59 p.m. on July 26, 2002.

Dated: June 6, 2002.
Greg Shapley,
Chief, Bridge Administration, Seventh Coast Guard District.

[FR Doc. 02-15201 Filed 6-14-02; 8:45 am]

BILLING CODE 4910-15-P